DEPARTMENT OF HEALTH AND HUMAN SERVICES

Centers for Disease Control and Prevention

National Institute for Occupational Safety and Health; Meeting

The National Institute for Occupational Safety and Health (NIOSH) at the Centers for Disease Control and Prevention (CDC) announces the following meeting.

Name: Discussions on Research for Comprehensive Test Standards of Respiratory Devices Used to Protect Workers in Hazardous Environments.

Time and Date: 12:30-5 p.m., April 10, 2003.

Place: Marriott Key Bridge, 1401 Lee Highway, Arlington, Virginia.

Status: This meeting is hosted by NIOSH and will be open to the public, limited only by the space available. The meeting room will accommodate approximately 75 people. Interested parties should make hotel reservations directly with the Marriott Key Bridge (703-524-6400/800-327-9789) in Arlington, Virginia, and reference the NIOSH/NPPTL Public Meeting. Interested parties should confirm their attendance to this meeting by completing a registration form and forwarding it by e-mail (confserv@netl.doe.gov) or fax (304-285-4459) to the Event Management Office. A registration form may be obtained from the NIOSH Homepage (http://www.cdc.gov/niosh) by selecting Conferences and then the event.

Requests to make presentations at the public meeting should be mailed to the NIOSH Docket Officer, Robert A. Taft Laboratories, M/S C34, 4676 Columbia Parkway, Cincinnati, Ohio 45226, Telephone 513-533-8303, Fax 513-533-8285, E-mail niocindocket@cdc.gov. All requests to present should contain the name, address, telephone number, relevant business affiliations of the presenter, a brief summary of the presentation, and the approximate time requested for the presentation. Oral presentations should be limited to 15 minutes.

After reviewing the requests for presentation, NIOSH will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given the opportunity at the conclusion of the meeting, at the discretion of the presiding officer.

NIOSH is specifically asking for comments on the proposed actions listed, but would also welcome comments on additional areas that the commenter believe may need to be addressed. Comments on the topics presented in this notice and at the meeting should be mailed to the NIOSH Docket Office, Robert A. Taft Laboratories, M/S C34, 4676 Columbia Parkway, Cincinnati, Ohio 45226, Telephone 513-533-8303, Fax 513-533-8285. Comments may also be submitted by e-mail to niocindocket@cdc.gov. E-mail attachments should be formatted as WordPerfect 6/7/8/9 or Microsoft Word. Comments should be submitted to NIOSH no later than June 1, 2003, and should reference docket number, NIOSH-008 in the subject heading.

Purpose: The National Institute for Occupational Safety and Health is conducting research for new comprehensive standards for multifunction Powered Air Purifying Respirators (PAPRs). These respiratory protective devices may include protection against other types of threats or hazards. Some devices can include vision protection, hearing protection, or head protection as well as isolation from environmental contaminants, making them multifunctional. Such devices could be very useful to emergency responders, miners, and construction workers, to name a few.

The purpose of this meeting is to provide an opportunity for an exchange of information between NIOSH and respirator manufacturers, industry representatives, labor representatives, and others with an interest in respiratory protection. Attendees will be given an opportunity to ask questions and submit verbal and written comments they wish to have included in the regulatory record.

Besides providing respiratory protection, multifunction PAPRs must allow wearers to perform their assigned duties without posing additional burdens. Vision, communications, heat exchange, and ability to fit into tight places must meet meaningful testing criteria to have reasonable assurance that they will be acceptable. In addition, loose-fitting PAPR equipment must be able to supply enough filtered air that the wearer does not breathe contaminated air during heavy exertion.

The problem is how to objectively evaluate candidate equipment. Multifunction PAPRs must be evaluated against objective, scientifically valid tests in order to be certified by the Government as reasonably meeting minimum standards. Currently, appropriate standards are not available. Such standards, which address all the elements that go into making the equipment multifunctional, must be developed and validated. The purpose of this meeting is to discuss comprehensive test standards for all elements of multifunction PAPRs.

NIOSH has not determined the final content of its research but is considering that test standards will be needed for:

(1) Respiration;

(2) Vision;

(3) Communications;

(4) Wear Ability;

(5) Hearing Protection.

FOR ADDITIONAL INFORMATION CONTACT: Event Management, P.O. Box 880, 3610 Collins Ferry Road, Morgantown, WV 26507, Telephone 304-285-4750, Fax 304-285-4459, E-mail confserv@netl.doe.gov.

The Director, Management Analysis and Services Office, has been delegated the authority to sign Federal Register Notices pertaining to announcements of meetings and other committee management activities, for both the Centers for Disease Control and Prevention and the Agency for Toxic Substances and Disease Registry.

Dated: March 14, 2003.
Alvin Hall,
Director, Management Analysis and Services Office, Centers for Disease Control and Prevention.

[FR Doc. 03-6687 Filed 3-19-03; 8:45 am]

BILLING CODE 4163-18-P